FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 010099-042.

Title: International Council of Containership Operators.

Parties: A.P. Moller-Maersk Sealand; ANL Container Line Pty Ltd.; American President Lines, Ltd.; APL Co. PTE Ltd.; APL Limited; Atlantic Container Line AB; Australia-New Zealand Direct Line; Canada Maritime Limited; Cast Line Limited; China Shipping Container Lines Co., Ltd.; CMA CGM, S.A.; Companhia Libra de Navegacao; Compania Sud-Americana de Vapores S.A.; Contship Containerlines; Cosco Container Lines Company Limited; CP Ships; Crowley Maritime Corporation; Delmas SAS; Evergreen Marine Corporation, Ltd.; Hamburg-Sud; Hanjin Shipping Co., Ltd.; Hapag-Lloyd Container Linie GmbH; Hyundai Merchant Marine Co., Ltd.; Italia di Navigazione, LLC; Kawasaki Kisen Kaisha, Ltd.; Lykes Lines Limited, LLC; Malaysian International Shipping Company; Mediterranean Shipping Company S.A.; Mitsui O.S.K. Lines, Ltd.; Montemar Maritima S.A.; Neptune Orient Lines, Ltd.; Nippon Yusen Kaisha; Norasia Container Lines Limited; Orient Overseas Container Line, Limited; Pacific International Lines (PTE) Ltd.; P&O Nedlloyd B.V.; P&O Nedlloyd Limited; Safmarine Container Line N.V.; Senator Lines GmbH; TMM Lines Limited, LLC; United Arab Shipping Company; Yang Ming Transport Marine Corp.; Wan Hai Lines Ltd.; Zim Integrated Shipping Services Ltd.

Filing Party: John Longstreth, Esq.; Preston Gates Ellis & Rouvelas Meeds LLP; 1735 New York Avenue, Suite 500; Washington, DC 20006-5209.

Synopsis: The amendment reflects a name change for Lykes Lines Limited to CP Ships (USA) LLC and the merger of TMM Lines and Italia di Navigazione LLC into CP Ships (USA).

Agreement No.: 010051-035.

Title: Mediterranean Space Charter Agreement.

Parties: Farrell Lines, Inc.; Italia di Navigazione, LLC; CP Ships (USA) LLC; A.P. Moller-Maersk A/S; Mediterranean Shipping Company, S.A.; P&O Nedlloyd Limited; P&O Nedlloyd B.V.; Hapag-Lloyd Container Linie GmbH; and Zim Integrated Shipping Services, Ltd.

Filing Party: Wayne R. Rohde, Esq.; Sher & Blackwell; 1850 M Street, NW., Suite 900; Washington, DC 20036.

Synopsis: The amendment deletes Evergreen Marine Corp (Taiwan) Ltd. as a party to the agreement, changes Lykes Lines Limited, LLC name to CP Ships (USA) LLC, and reflects the resignation of Italia di Navigazione, LLC.

Agreement No.: 010979-041.

Title: Caribbean Shipowners Association.

Parties: Bernuth Lines, Ltd.; CMA CGM, S.A.; Crowley Liner Services, Inc.; Interline Connection, N.V.; Lykes Lines Limited; Seaboard Marine Ltd.; Seafreight Line, Ltd.; TMM Lines, LLC; Tropical Shipping and Construction Co., Ltd.; and Zim Israel Navigation Co., Ltd.

Filing Party: Veronica Majewski; Director of Regulatory Activities; Transportation Services Inc.; Galleria Professional Building; 915 Middle River Drive, Suite 414; Fort Lauderdale, FL 33304-3561.

Synopsis: The amendment deletes Sea Star Line LLC from the agreement, updates Zim's corporate name and address, and updates the membership of the discussion sections of the agreement.

Agreement No.: 010982-037.

Title: Florida-Bahamas Shipowner and Operators Association.

Parties: Atlantic Caribbean Line, Inc.; Crowley Liner Services, Inc.; G&G Marine, Inc.; Pioneer Shipping Ltd.; Seaboard Marine, Ltd.; and Tropical Shipping and Construction Co., Ltd.

Filing Party: Veronica Majewski; Director of Regulatory Activities; Transportation Services Inc.; Galleria Professional Building; 915 Middle River Drive, Suite 414; Fort Lauderdale, FL 33304-3561.

Synopsis: The amendment deletes Caicos Cargo Ltd. as a member to the agreement, removes the British West Indies from the geographic scope of the agreement, and expands the scope to include all ports on the U.S. Atlantic and Gulf Coasts.

Agreement No.: 011290-034.

Title: International Vessel Operators Hazardous Material Association Agreement.

Parties: Aliança Navegacao e Logistica Ltda.; APL Co. PTE Ltd.; Atlantic Container Line AB; Australia-New Zealand Direct Line; Bermuda Container Line; Canada Maritime Agencies Ltd.; China Shipping Container Lines Co., Ltd.; CMA CGM, S.A.; Compania Latino Americana de Navegacion SA; Contship Containerlines; Crowley Maritime Corporation; Evergreen Marine Corp. (Taiwan) Ltd.; Hamburg-Südamerikanische Dampfschifffahrts-gesellschaft KG; Hanjin Shipping Co., Ltd.; Hapag-Lloyd Container Linie GmbH; Horizon Lines, LLC; Hyundai Merchant Marine Co., Ltd.; Independent Container Line Ltd.; Italia di Navigazione, LLC; Kawasaki Kisen Kaisha Ltd.; Lykes Lines Limited, LLC; Marine Transport Lines, Inc.; Maruba SCA; Mitsui O.S.K. Lines, Ltd.; A.P. Moller-Maersk A/S; National Shipping Co. of Saudi Arabia; Nippon Yusen Kaisha Line; Orient Overseas Container Line Limited; P&O Nedlloyd B.V.; P&O Nedlloyd Limited; Safmarine Container Lines; Seaboard Marine Ltd.; Senator Lines GmbH; TMM Lines Limited; Tropical Shipping & Construction Co., Ltd.; United Arab Shipping Co. S.A.G.; Yang Ming Marine Transport Corp.; and Zim Integrated Shipping Services, Ltd.

Filing Party: Wayne R. Rohde, Esquire; Sher & Blackwell; 1850 M Street, NW.; Suite 900; Washington, DC 20036.

Synopsis: The amendment changes Lykes Lines name to CP Ships (USA) LLC and deletes Italia di Navigazione and TMM as parties to the agreement.

Agreement No.: 011587-012.

Title: United States South Europe Conference.

Parties: A.P. Moller-Maersk A/S; P&O Nedlloyd Limited; and Hapag-Lloyd Container Linie GmbH.

Filing Party: Wayne R. Rohde, Esq.; Sher & Blackwell; 1850 M Street, NW., Suite 900; Washington, DC 20036.

Synopsis: The amendment clarifies the parties' authority regarding multi-carrier service contracts and adds provisions dealing with the responsibility for civil penalties.

Agreement No.: 011733-015.

Title: Common Ocean Carrier Platform Agreement.

Parties: A.P. Moller-Maersk A/S; P&O Nedlloyd Limited; Hamburg-Süd, Mediterranean Shipping Company S.A., CMA CGM S.A., Hapag-Lloyd Container Linie GmbH; and United Arab Shipping Company (SAG); as shareholder parties; and Alianca Navegacao e Logistica Ltda.; Safmarine Container Lines N.V.; Nippon Yusen Kaisha; CP Ships Limited; Tasman Orient Line C.V.; Mitsui O.S.K. Lines, Ltd.; CP Ships (USA) LLC; Kawasaki Kisen Kaisha Ltd.; FESCO Ocean Management Ltd.; and Senator Lines GmbH as non-shareholder parties.

Filing Party: Wayne R. Rohde, Esq.; Sher & Blackwell; 1850 M Street, NW., Suite 900; Washington, DC 20036.

Synopsis: The amendment changes the name of Lykes Lines Limited, LLC to CP Ships (USA) LLC.

Agreement No.: 011859-002.

Title: TMM/Hanjin Slot Charter Agreement.

Parties: TMM Lines, Limited, LLC, Hanjin Shipping Co., Ltd.

Filing Party: Wayne R. Rohde, Esq.; Sher & Blackwell; 1850 M Street, NW.; Suite 900; Washington, DC 20036.

Synopsis: The amendment deletes TMM as a party, replacing it with CP Ships (USA) LLC, and makes corresponding changes consistent with the foregoing substitution.

Agreement No.: 011894-001.

Title: Lykes/TMM/Montemar Slot Swap Agreement.

Parties: Lykes Lines Limited, LLC; TMM Lines Limited, LLC; and Montemar Maritima, S.A.

Filing Party: Wayne R. Rohde, Esq.; Sher & Blackwell; 1850 M Street, NW., Suite 900; Washington, DC 20036.

Synopsis: The amendment changes Lykes' name to CP Ships (USA) LLC, reflects TMM's resignation from the agreement, and makes conforming changes based on the foregoing.

By Order of the Federal Maritime Commission.
Dated: May 13, 2005.
Bryant L. VanBrakle,
Secretary.

[FR Doc. 05-9928 Filed 5-17-05; 8:45 am]

BILLING CODE 6730-01-P